DEPARTMENT OF COMMERCE

International Trade Administration

[C-533-943, C-560-847, C-553-004]

Crystalline Silicone Photovoltaic Cells, Whether or Not Assembled Into Modules From India, Indonesia, and the Lao People's Democratic Republic: Postponement of Preliminary Determinations in the Countervailing Duty Investigations

AGENCY: Enforcement and Compliance, International Trade Administration, Department of Commerce.

DATES: Applicable September 23, 2025.

FOR FURTHER INFORMATION CONTACT: Amber Hodak at (202) 482-8034 (India); Theodore Pearson at (202) 482-2631 (Indonesia); and Laurel Smalley (the Lao People's Democratic Republic (Laos)) at (202) 482-3456, AD/CVD Operations, Enforcement and Compliance, International Trade Administration, U.S. Department of Commerce, 1401 Constitution Avenue NW, Washington, DC 20230.

SUPPLEMENTARY INFORMATION:

Background

On August 6, 2025, the U.S. Department of Commerce (Commerce) initiated countervailing duty (CVD) investigations of imports of crystalline silicone photovoltaic cells, whether or not assembled into modules (solar cells) from India, Indonesia, and Laos.¹ Currently, the preliminary determinations are due no later than October 10, 2025.

¹ See Crystalline Photovoltaic Cells, Whether or Not Assembled Into Modules, from India, Indonesia, and the Lao People's Democratic Republic: Initiation of Countervailing Duty Investigations, 90 FR 38745 (August 12, 2025) (Initiation Notice).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Alliance for American Solar Manufacturing and Trade. See Initiation Notice.

On September 15, 2025, the petitioner submitted a timely request that Commerce postpone the preliminary CVD determinations in the CVD investigations of solar cells from India, Indonesia and Laos to 130 days from the date of initiation, pursuant to 19 CFR 351.205(b) and (e).³ The petitioner stated that postponement of the preliminary determinations is necessary because the current schedule does not provide Commerce and interested parties with sufficient time to examine the subsidies that producers and exporters of subject merchandise from the investigated countries receive and for Commerce issue supplemental questionnaires and receive responses prior to making a preliminary CVD determination.⁴

³ See Petitioner's Letters, “Request to Postpone Preliminary Determination,” dated September 15, 2025.

⁴ Id.

In accordance with 19 CFR 351.205(e), the petitioner submitted their request for postponement of the preliminary determinations in these investigations 25 days or more before the scheduled date of the preliminary determinations and has stated the reasons for their request. Commerce finds no compelling reason to deny the request. Therefore, in accordance with section 703(c)(1)(A) of the Act, Commerce is postponing the deadline for the preliminary determinations in the CVD investigations of solar cells from India, Indonesia and Laos to no later than 130 days after the date on which these investigations were initiated, i.e., December 15, 2025.⁵ Pursuant to section 705(a)(1) of the Act and 19 CFR 351.210(b)(1), the deadline for the final determinations of these investigations will continue to be 75 days after the date of the preliminary determinations.

⁵ Because the deadline for these preliminary determinations falls on the weekend (i.e., December 14, 2025), the deadline becomes the next business day (i.e. December 15, 2025). See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: September 17, 2025.
Christopher Abbott,
Deputy Assistant Secretary for Policy and Negotiations, performing the non-exclusive functions and duties of the Assistant Secretary for Enforcement and Compliance.

[FR Doc. 2025-18399 Filed 9-22-25; 8:45 am]

BILLING CODE 3510-DS-P